DEPARTMENT OF ENERGY

Federal Energy Regulatory Commission

[Project No. 13234-002]

City and Borough of Sitka, AK; Notice of Preliminary Permit Application Accepted for Filing and Soliciting Comments, Motions To Intervene, and Competing Applications

On September 1, 2011, and supplemented on October 17, 2011, the City and Borough of Sitka filed an application for a preliminary permit, pursuant to section 4(f) of the Federal Power Act (FPA), proposing to study the feasibility of the Takatz Lake Hydroelectric Project (Takatz Lake Project) to be located on Takatz Lake and Takatz Creek, about 21 miles east of the city of Sitka, Alaska, on the east side of Baranof Island. The sole purpose of a preliminary permit is to grant the permit holder priority to file a license application during the permit term. A preliminary permit does not authorize the permit holder to perform any land-disturbing activities or otherwise enter upon lands or waters owned by others without the owners' express permission.

The proposed Takatz Lake Project would consist of the following new facilities: (1) A 200-foot-high by 250-foot-long primary concrete dam that would raise the elevation of the existing lake; (2) a 63-foot-high by 100-foot-long secondary saddle dam; (3) an impoundment with a 740-acre surface area at a full pool elevation of 1,040 feet above mean sea level, with an active capacity of 82,400 acre feet; (4) a 2,800-foot-long, 6.5-foot by 7-foot horseshoe-tunnel power conduit fed by a concrete intake structure or lake tap; (5) a 72-inch-diameter 1,000-foot-long steel penstock; (6) a 120-foot-long by 80-foot-wide powerhouse containing two Francis-type generation units having a total installed capacity of 27.7 megawatts; (7) a 100-foot-long by 70-foot-wide switchyard; (8) an about 26-mile-long, 138-kilovolt transmission line that consists of underground and overhead segments, including an alternative for a submarine segment; (9) an about 3-mile-long access road; and (10) appurtenant facilities. The estimated annual generation output for the project would be 106.9 gigawatt-hours.

Applicant Contact: Mr. Christopher Brewton, Utility Director, Electric Department, City and Borough of Sitka, Alaska, 105 Jarvis Street, Sitka, AK 99835; Phone (907) 747-1870.

FERC Contact: Joseph Adamson; Phone: (202) 502-8085.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13234) in the docket number field to access the document. For assistance, contact FERC Online Support.

Dated: October 21, 2011.
Kimberly D. Bose,
Secretary.

[FR Doc. 2011-27834 Filed 10-26-11; 8:45 am]

BILLING CODE 6717-01-P